DEPARTMENT OF AGRICULTURE

Animal and Plant Health Inspection Service

9 CFR Part 91

[Docket No. APHIS-2009-0067]

RIN 0579-AD18

Live Goats and Swine for Export; Removal of Certain Testing Requirements

AGENCY: Animal and Plant Health Inspection Service, USDA.

ACTION: Final rule.

SUMMARY: We are amending the livestock exportation regulations to eliminate the requirement for pre-export tuberculosis and brucellosis testing of goats and breeding swine intended for export to countries that do not require such tests. This action will facilitate the exportation of goats and breeding swine by eliminating the need to conduct pre-export tuberculosis and brucellosis testing when the receiving country does not require such testing.

DATES: Effective Date: May 24, 2011.

FOR FURTHER INFORMATION CONTACT: Dr. Antonio Ramirez, Senior Staff Veterinarian, Technical Trade Services, National Center for Import and Export, VS, APHIS, 4700 River Road, Unit 39, Riverdale, MD 20737-1231; (301) 734-8364.

SUPPLEMENTARY INFORMATION:

Background

The regulations in 9 CFR part 91, “Inspection and Handling of Livestock for Exportation” (referred to below as the regulations), prescribe conditions for exporting animals from the United States. Section 91.6 requires that goats intended for exportation be tested for tuberculosis and, for some goats, brucellosis prior to export. Section 91.9 requires that breeding swine intended for exportation be tested for brucellosis prior to export.

Some countries do not require that goats and breeding swine be tested for tuberculosis and brucellosis prior to export. Even in such cases, though, our regulations require that such testing be conducted. Thus, these requirements can create an unnecessary burden for producers when testing is not required to satisfy the import regulations of the country to which they are exporting goats and breeding swine.

On September 17, 2010, we published in the Federal Register (75 FR 56912-56914, Docket No. APHIS-2009-0067) a proposed rule ¹ to amend the livestock exportation regulations to eliminate the requirement for pre-export tuberculosis and brucellosis testing of goats and breeding swine intended for export to countries that do not require such tests. In our proposal, we discussed how this action will relieve unnecessary burdens for producers when testing is not required to satisfy the importation regulations of the country to which they are exporting goats and breeding swine.

¹ To view the proposed rule and the comments we received, go to http://www.regulations.gov/fdmspublic/component/main?main=DocketDetail&d=APHIS-2009-0067.

In this final rule, we are making a technical amendment to the citation to paragraph (a)(1) in § 91.6(a)(4)(iii). Paragraph (a)(4)(iii) should now read that brucellosis testing is not required for dairy and breeding goats exported to a country that does not require goats from the United Stated to be tested for brucellosis as described in paragraph (a)(2) of this section.

We solicited comments concerning the proposed rule for 60 days ending November 16, 2010. We received four comments by that date. They were from three private citizen and an exporter. Two commenters supported the proposed rule, and one commenter stated her opposition to the exportation of animals without raising any issues related to the proposed rule.

The remaining commenter opposed our decision to eliminate the testing requirement in instances when the receiving country does not require such testing because of the risk of spreading tuberculosis and brucellosis. The commenter suggested that the testing requirement be waived only for goats or breeding swine that come from a brucellosis-free State. The commenter also suggested that all goats and breeding swine that have not been tested for brucellosis before exportation be accompanied by a document warning the destination country that they have not been tested for brucellosis.

We note that all States are recognized as class free for Brucella abortus, the strain of brucellosis that would affect goats and as validated brucellosis free for B. suis, the strain of brucellosis that would affect swine.

We also note that our regulations require all exported goats and breeding swine to be accompanied by an origin health certificate that certifies that the animals were inspected 30 days prior to exportation. The health certificate must also include all test results, certifications, or other statements required by the destination country. If a country does not require goats and breeding swine be tested for tuberculosis or brucellosis prior to exportation, a document stating that no pre-export test has occurred would not be necessary.

Therefore, for the reasons given in the proposed rule and in this document, we are adopting the proposed rule as a final rule with changes discussed in this document.

Effective Date

This is a substantive rule that relieves restrictions and, pursuant to the provisions of 5 U.S.C. 553, may be made effective less than 30 days after publication in the Federal Register. This rule eliminates the requirement for pre-export tuberculosis and brucellosis testing of goats and breeding swine intended for export to countries that do not require such tests, thus reducing the burden for producers when exporting goats and breeding swine. Therefore, the Administrator of the Animal and Plant Health Inspection Service has determined that this rule should be effective upon publication in the Federal Register.

Executive Order 12866 and Regulatory Flexibility Act

This final rule has been determined to be not significant for the purposes of Executive Order 12866 and, therefore, has not been reviewed by the Office of Management and Budget.

We have prepared an economic analysis for this action. The economic analysis is posted with this final rule on the Regulations.gov Web site (see ADDRESSES above for instructions for accessing Regulations.gov) and may be obtained from the person listed under FOR FURTHER INFORMATION CONTACT.

The analysis identifies live goat and swine exporters as the small entities most likely to be affected by this action, and considers the costs associated with the elimination of tuberculosis and brucellosis testing requirements for goats and swine being exported to countries that do require such tests. Based on the information presented in the analysis, we expect that the goat and swine wholesale trading industry will experience a reduction in compliance costs as a result of this action although the savings will be small in comparison to the value of the animals being exported.

Under these circumstances, the Administrator of the Animal and Plant Health Inspection Service has determined that this action will not have a significant economic impact on a substantial number of small entities.

Executive Order 12372

This program/activity is listed in the Catalog of Federal Domestic Assistance under No. 10.025 and is subject to Executive Order 12372, which requires intergovernmental consultation with State and local officials. (See 7 CFR part 3015, subpart V.)

Executive Order 12988

This final rule has been reviewed under Executive Order 12988, Civil Justice Reform. This rule: (1) Has no retroactive effect and (2) administrative proceedings will not be required before parties may file suit in court challenging this rule.

Paperwork Reduction Act

This final rule contains no information collection or recordkeeping requirements under the Paperwork Reduction Act of 1995 (44 U.S.C. 3501 et seq.).

List of Subjects in 9 CFR Part 91

Animal diseases, Animal welfare, Exports, Livestock, Reporting and recordkeeping requirements, Transportation.

Accordingly, we are amending 9 CFR part 91 as follows:

PART 91—INSPECTION AND HANDLING OF LIVESTOCK FOR EXPORTATION

1. The authority citation for part 91 continues to read as follows:

Authority: 7 U.S.C. 8301-8317; 19 U.S.C. 1644a(c); 21 U.S.C. 136, 136a, and 618; 46 U.S.C. 3901 and 3902; 7 CFR 2.22, 2.80, and 371.4.

2. In § 91.6, paragraph (a)(4) is revised to read as follows:

§ 91.6 Goats.

(a) * * *

(4) Exemptions. (i) Goats exported for immediate slaughter need not comply with the requirements of paragraphs (a)(1), (a)(2), (a)(3), and (a)(5) of this section.

(ii) Tuberculosis testing is not required for goats over 1 month of age exported to a country that does not require goats from the United States to be tested for tuberculosis as described in paragraph (a)(1) of this section.

(iii) Brucellosis testing is not required for dairy and breeding goats exported to a country that does not require goats from the United Stated to be tested for brucellosis as described in paragraph (a)(2) of this section.

* * * * *

3. Section 91.9 is revised to read as follows:

§ 91.9 Swine.

(a) No swine shall be exported if they were fed garbage at any time. The swine shall be accompanied by a certification from the owner stating that they were not fed garbage, and that any additions to the herd made within the 30 days immediately preceding the export shipment have been maintained isolated from the swine to be exported.

(b) Except as provided in paragraph (c) of this section, all breeding swine shall be tested for and show negative test results to brucellosis by a test prescribed in “Standard Agglutination Test Procedures for the Diagnosis of Brucellosis” or “Supplemental Test Procedures for the Diagnosis of Brucellosis.” The test results shall be classified negative in accordance with the provisions prescribed in the Recommended Brucellosis Eradication Uniform Methods and Rules, chapter 2, part II, G, 1, 2, and 3.

(c) Breeding swine exported to a country that does not require breeding swine from the United States to be tested for brucellosis need not comply with the requirements of paragraph (b) of this section.

(Approved by the Office of Management and Budget under control number 0579-0020)

Done in Washington, DC, this 18th day of May 2011.
Kevin Shea,
Acting Administrator, Animal and Plant Health Inspection Service.

[FR Doc. 2011-12758 Filed 5-23-11; 8:45 am]

BILLING CODE 3410-34-P